Proclamation 9887 of May 16, 2019

To Modify the List of Beneficiary Developing Countries Under the Trade Act of 1974

By the President of the United States of America

A Proclamation

1. In Executive Order 11888 of November 24, 1975, the President designated Turkey as a beneficiary developing country for purposes of the Generalized System of Preferences (GSP) (19 U.S.C. 2461 et seq.).

2. Pursuant to section 502(d)(1) of the Trade Act of 1974, as amended (the “1974 Act”) (19 U.S.C. 2462(d)(1)), the President may withdraw, suspend, or limit the application of the duty-free treatment accorded under the GSP with respect to any beneficiary developing country. In taking any action under section 502(d)(1) of the 1974 Act, the President shall consider the factors set forth in sections 501 and 502(c) of the 1974 Act (19 U.S.C. 2461 and 2462(c)).

3. Section 502(c)(2) of the 1974 Act (19 U.S.C. 2462(c)(2)) provides that, in determining whether to designate any country as a beneficiary developing country, the President shall take into account, among other factors, the level of economic development of such country, including its per capita gross national product, the living standards of its inhabitants, and any other economic factors that the President deems appropriate.

4. Consistent with section 502(d)(1) of the 1974 Act, and having considered the factors set forth in sections 501 and 502(c), I have determined that, based on its level of economic development, it is appropriate to terminate Turkey's designation as a beneficiary developing country effective May 17, 2019.

5. Section 502(f)(2) of the 1974 Act (19 U.S.C. 2462(f)(2)) requires the President to notify the Congress and the affected beneficiary developing country, at least 60 days before termination, of the President's intention to terminate the affected country's designation as a beneficiary developing country, together with the considerations entering into such decision. I notified the Congress and Turkey on March 4, 2019, of my intent to terminate Turkey's designation, together with the considerations entering into my decision.

6. Pursuant to section 203 of the 1974 Act (19 U.S.C. 2253), and after receiving a report from the International Trade Commission prepared under section 202 of the 1974 Act (19 U.S.C. 2252), the President may implement a measure in the form of a safeguard to address increased imports of articles that are a substantial cause of serious injury to a domestic industry producing like or directly competitive products. When acting pursuant to section 203 of the 1974 Act, the President shall take action that he determines will facilitate efforts of the domestic industry to make a positive adjustment to import competition and provide greater economic and social benefits than costs.

7. In Proclamation 9693 of January 23, 2018, I, pursuant to section 203 of the 1974 Act, implemented a safeguard measure on imports of certain crystalline silicon photovoltaic (CSPV) cells, whether or not partially or fully assembled into other products (including, but not limited to, modules, laminates, panels, and building-integrated materials) (“CSPV products”). In Proclamation 9694 of January 23, 2018, I, pursuant to section 203 of the 1974 Act, implemented a safeguard measure on imports of large residential washers.

8. The safeguard measures implemented by Proclamations 9693 and 9694 exempt imports of covered products from developing countries that are Members of the World Trade Organization (WTO), including Turkey, if such a country's individual share of total imports of the product does not exceed 3 percent and if imports of all such countries with less than 3 percent import share do not collectively account for more than 9 percent of total imports of the product.

9. Consistent with my determination that it is appropriate to terminate the designation of Turkey as a beneficiary developing country under the GSP, effective May 17, 2019, I have determined to remove it from the list of developing country WTO Members exempt from application of the safeguard measures on CSPV products and large residential washers. To reflect Turkey's removal from the list, I have determined that it is appropriate to revise subdivision (b)(2) of U.S. note 17 and subdivision (b) of U.S. note 18 to subchapter III of chapter 99 of the Harmonized Tariff Schedule of the United States (HTS) to delete the references to Turkey.

10. Section 604 of the 1974 Act (19 U.S.C. 2483) authorizes the President to embody in the HTS the substance of the relevant provisions of the 1974 Act, and of other Acts affecting import treatment, and actions thereunder, including removal, modification, continuance, or imposition of any rate of duty or other import restriction.

NOW, THEREFORE, I, DONALD J. TRUMP, President of the United States of America, acting under the authority vested in me by the Constitution and the laws of the United States of America, including title V and sections 203 and 604 of the 1974 Act, do hereby proclaim that:

(1) The designation of Turkey as a beneficiary developing country is terminated, effective May 17, 2019.

(2) To reflect this termination, general notes 4(a) and 4(d) and pertinent subheadings of the HTS are modified as set forth in Annex A to this proclamation.

(3) Any provisions of previous proclamations and Executive Orders that are inconsistent with the actions taken in this proclamation are superseded to the extent of such inconsistency.

(4) The exemption for Turkey from application of the safeguard measures on CSPV products and large residential washers is removed, effective May 17, 2019.

(5) To reflect this revision, subdivision (b)(2) of U.S. note 17 and subdivision (b) of U.S. note 18 to subchapter III of chapter 99 of the HTS are each modified as set forth in Annex B to this proclamation.

IN WITNESS WHEREOF, I have hereunto set my hand this sixteenth day of May, in the year of our Lord two thousand nineteen, and of the Independence of the United States of America the two hundred and forty-third.

Billing code 3295-F9-P

[FR Doc. 2019-10761

Filed 5-20-19; 11:15 am]

Billing code 7020-02-C